DEPARTMENT OF VETERANS AFFAIRS

[OMB Control No. 2900-0718]

Agency Information Collection Activity Under OMB Review: Yellow Ribbon Agreement

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden; it includes the actual data collection instrument.

DATES: Comments must be submitted on or before May 30, 2018.

ADDRESSES: Submit written comments on the collection of information through www.Regulations.gov, or to Office of Information and Regulatory Affairs, Office of Management and Budget, Attn: VA Desk Officer; 725 17th St. NW, Washington, DC 20503 or sent through electronic mail to oira_submission@omb.eop.gov. Please refer to “OMB Control No. 2900-0718” in any correspondence.

FOR FURTHER INFORMATION CONTACT: Cynthia D. Harvey-Pryor, Department Clearance Officer—OI&T (005R1B), Department of Veterans Affairs, 810 Vermont Avenue NW, Washington, DC 20420, (202) 461-5870 or email Cynthia.harvey.pryor@va.gov. Please refer to “OMB Control No. 2900-0178” in any correspondence.

SUPPLEMENTARY INFORMATION:

Authority: 38 U.S.C. 3317.

Title: Yellow Ribbon Agreement (VA Form 22-0839).

OMB Control Number: 2900-0178.

Type of Review: Revision of a currently approved collection.

Abstract: VA Form 22-0839 will be used to determine which IHLs will be participating in the Yellow Ribbon Program, the maximum number of individuals for whom the IHL will make contributions in any given academic year, the maximum dollar amount of outstanding established charges that will be waived for each student based on student status (i.e., undergraduate, graduate, doctoral) or sub-element (i.e., college or professional school).

An agency may not conduct or sponsor, and a person is not required to respond to a collection of information unless it displays a currently valid OMB control number. The Federal Register Notice with a 60-day comment period soliciting comments on this collection of information was published at 83 FR 26 on February 7, 2018 page 5514.

Affected Public: Institutions of Higher Learning.

Estimated Annual Burden: 47,208 hours.

Estimated Average Burden per Respondent: 14 hours.

Frequency of Response: Once Annually.

Estimated Number of Respondents: 3,372.

By direction of the Secretary.
Cynthia D. Harvey-Pryor,
Department Clearance Officer, Office of Quality, Privacy and Risk, Department of Veterans Affairs.

[FR Doc. 2018-09054 Filed 4-27-18; 8:45 am]

BILLING CODE 8320-01-P